DEPARTMENT OF VETERANS AFFAIRS

Advisory Committee on Prosthetics and Special-Disabilities Programs; Notice of Meeting

The Department of Veterans Affairs (VA) gives notice under Public Law 92-463 that a meeting of the Advisory Committee on Prosthetics and Special-Disabilities Programs will be held Tuesday and Wednesday, May 22-23, 2001, at VA Headquarters, Room 230, 810 Vermont Avenue, NW., Washington, DC. The May 22 session will convene at 8 a.m. and adjourn at 4 p.m. and the May 23 session will convene at 8 a.m. and adjourn at 12 noon. The purpose of the Committee is to advise the Department on its prosthetic programs designed to provide state-of-the-art prosthetics and the associated rehabilitation research, development, and evaluation of such technology. The Committee also advises the Department on special disability programs which are defined as any program administered by the Secretary to serve veterans with spinal cord injury, blindness or vision impairment, loss of or loss of use of extremities, deafness or hearing impairment, or other serious incapacities in terms of daily life functions.

On the morning of May 22, the Committee will hold a joint meeting with the Veterans' Advisory Committee on Rehabilitation to discuss mutual issues and concerns. Both Committees will also receive a briefing on the current status of the rehabilitation bed issue by the Chief Consultant of the Rehabilitation Strategic Healthcare Group. At the conclusion of the joint meeting, the Advisory Committee on Prosthetics and Special-Disabilities Programs will receive briefings by the National Program Directors of the Special-Disabilities Programs regarding the status of their activities over the last six months. In the afternoon, a briefing concerning the current status of VA's Capacity Report will be presented by the newly appointed Clinical Coordinator or her designee. On the morning of May 23, the Committee will continue to receive briefings by the National Program Directors of the special disability programs, i.e., spinal cord injury, blind rehabilitation, audiology and speech pathology, and prosthetics.

The meeting is open to the public. For those wishing to attend, please contact Ms. Kathy Pessagno, Veterans Health Administration (113), Department of Veterans Affairs, 810 Vermont Avenue, NW., Washington, DC 20420, at (202) 273-8512, prior to the meeting.

Dated: May 2, 2001.
By Direction of the Secretary.
Ventris C. Gibson,
Committee Management Officer.

[FR Doc. 01-11746 Filed 5-9-01; 8:45 am]

BILLING CODE 8320-01-M